DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (the SDN List) based on OFAC's determination that one or more applicable legal criteria were satisfied. All property and interests in property subject to U.S. jurisdiction of these persons are blocked, and U.S. persons are generally prohibited from engaging in transactions with them.

DATES: See SUPPLEMENTARY INFORMATION section for applicable date(s).

FOR FURTHER INFORMATION CONTACT: OFAC: Associate Director for Global Targeting, tel.: 202-622-2420; Assistant Director for Sanctions Compliance & Evaluation, tel.: 202-622-2490; Assistant Director for Licensing, tel.: 202-622-2480.

SUPPLEMENTARY INFORMATION:

Electronic Availability

The Specially Designated Nationals and Blocked Persons List and additional information concerning OFAC sanctions programs are available on OFAC's website (https://www.treasury.gov/ofac).

Notice of OFAC Actions

On November 25, 2020, OFAC determined that the property and interests in property subject to U.S. jurisdiction of the following persons are blocked under the relevant sanctions authority listed below.

Individual

1. AL-KANI, Mohamed (a.k.a. AL-KANI, Mohamed Khalifa Abderrahim Shaqaqi; a.k.a. AL-KANI, Mohammed; a.k.a. AL-KANI, Muhammad Omar), Libya; DOB 03 May 1979; nationality Libya; Gender Male; Passport F86JKFJF (Libya) (individual) [GLOMAG] (Linked To: KANIYAT MILITIA).

Designated pursuant to section 1(a)(ii)(C)(1) of Executive Order 13818 of December 20, 2017, “Blocking the Property of Persons Involved in Serious Human Rights Abuse or Corruption,” 82 FR 60839, 3 CFR, 2018 Comp., p. 399, (E.O. 13818) for being a foreign person who is or has been a leader or official of an entity, including any government entity, that has engaged in, or whose members have engaged in, serious human rights abuse related to his tenure.

Entity

1. KANIYAT MILITIA (f.k.a. “7TH BRIGADE”; a.k.a. “9TH BRIGADE”; a.k.a. “AL-KANI MILITIA”; a.k.a. “AL-KANIYAT”; a.k.a. “KANI BRIGADE”; a.k.a. “KANIAT”; a.k.a. “KANIYAT”; a.k.a. “KANYAT”; f.k.a. “TARHUNA 7TH BRIGADE”; f.k.a. “TARHUNA BRIGADE”), Libya [GLOMAG].

Designated pursuant to section 1(a)(ii)(A) of E.O. 13818 for being a foreign person who is responsible for or complicit in, or has directly or indirectly engaged in, serious human rights abuse.

Dated: November 25, 2020.
Andrea Gacki,
Director, Office of Foreign Assets Control, U.S. Department of the Treasury.

[FR Doc. 2020-26507 Filed 11-30-20; 8:45 am]

BILLING CODE 4810-AL-P